NUCLEAR REGULATORY COMMISSION

The UNPLUG Salem Campaign, the National Whistleblower Center and Mr. Randy Robarge Riverkeeper, Inc., et al.; Receipt of Requests for Action Under 10 CFR 2.206

Notice is hereby given that by the following three petitions, the Nuclear Regulatory Commission (NRC) was requested to take immediate corrective actions to protect the public against the possibility of terrorists seizing control of a large commercial jetliner and crashing into a nuclear power plant in the United States.

1. From Mr. Norm Cohen, on behalf of the UNPLUG Salem Campaign, dated September 17, 2001.

2. From Mr. Michael D. Kohn, on behalf of the National Whistleblower Center and Randy Robarge, dated October 24, 2001.

3. From Messrs. Alex Matthiessen, and Karl Coplan, on behalf of the Riverkeeper, Inc., et al, dated November 8, 2001.

The petitioners requested that the NRC staff take certain specified compensatory measures, to protect the public and environment from the catastrophic impact of a terrorist attack on a nuclear power plant or a spent fuel pool.

These requests are being treated pursuant to 10 CFR 2.206 of the Commission's regulations. These requests have been referred to the Director of the Office of Nuclear Reactor Regulation. As provided by Section 2.206, appropriate action will be taken on these petitions within a reasonable time.

Since the subject of these petitions involves safeguards matters, the NRC has decided not to make the petitions public or publicly discuss the petitions to avoid disclosure of potentially sensitive security information.

Dated at Rockville, Maryland, this 20th day of December 2001.
For the Nuclear Regulatory Commission.
Brian W. Sheron,
Acting Director, Office of Nuclear Reactor Regulation.

[FR Doc. 01-31930 Filed 12-27-01; 8:45 am]

BILLING CODE 7590-01-P